DEPARTMENT OF HEALTH AND HUMAN SERVICES

Administration for Children and Families

Proposed Information Collection Activity; Comment Request

Proposed Projects

Title: Financial Institution Data Match.

OMB No. 0970-0196.

Description: Section 466(a)(17) of the Social Security Act (the Act), requires states to establish procedures under which the state child support enforcement (IV-D) agency shall enter into agreements with financial institutions doing business in the state for the purpose of securing information leading to the enforcement of child support orders. Under 452(1) of the Act, financial institutions doing business in multiple states may comply by centrally matching through the Federal Parent Locator Service rather than matching in each state in which the financial institution conducts business.

Respondents: Financial institutions doing business in two or more states.

Annual Burden Estimates
Instrument | Number of respondents | Number of responses per respondent | Average burden hours per response | Total burden hours
Financial Data Match Tape | 4501 | 4 | .5 | 9002
Election Form | 333 | 1 | .5 | 166.5

Estimated Total Annual Burden Hours: 9168.5.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection. E-mail address: grjohnson@acf.hhs.gov.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 19, 2004.
Bob Sargis,
Reports Clearance Officer.

[FR Doc. 04-11814 Filed 5-24-04; 8:45 am]

BILLING CODE 4184-01-M